DEPARTMENT OF TRANSPORTATION

Federal Aviation Administration

14 CFR Part 39

[Docket No. FAA-2012-0265; Directorate Identifier 2010-NM-216-AD]

RIN 2120-AA64

Airworthiness Directives; Dassault Aviation Airplanes

AGENCY: Federal Aviation Administration (FAA), DOT.

ACTION: Notice of proposed rulemaking (NPRM).

SUMMARY: We propose to supersede an existing airworthiness directive (AD) that applies to certain Dassault Aviation Model FALCON 7X airplanes. The existing AD currently requires revising the Abnormal Procedures and Limitations sections of the Dassault F7X airplane flight manual. Since we issued that AD, we have determined that additional actions are necessary to address the identified unsafe condition. This proposed AD would require performing a test of the power distribution control units (PDCU) cards and generator control units (GCU) cards to detect faculty components, and if any faulty components are found, replacing any affected PDCU or GCU card. We are proposing this AD to detect and correct a leakage failure mode of transient voltage suppression (TVS) diodes used on PDCU cards or GCU cards in the primary power distribution boxes (PPDB), which, in combination with other system failures, could lead to loss of controllability of the airplane.

DATES: We must receive comments on this proposed AD by April 30, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Dassault service information identified in this proposed AD, contact Dassault Falcon Jet, P.O. Box 2000, South Hackensack, New Jersey 07606; telephone 201-440-6700; Internet http://www.dassaultfalcon.com. For Goodrich Corporation, Power Systems, 1555 Corporate Woods Parkway, Uniontown, Ohio 44685-8799; telephone 330-487-2007; fax 330-487-1902; email twinsburg.techpubs@goodrich.com; Internet http://www.goodrich.com/TechPubs. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2012-0265; Directorate Identifier 2010-NM-216-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 11, 2010, we issued AD 2010-18-03, Amendment 39-16416 (75 FR 51931, August 24, 2010). That AD required actions intended to address an unsafe condition on certain Dassault Aviation Model FALCON 7X airplanes. The preamble of AD 2010-18-03 explains that we consider the requirements of that AD “interim action” and are considering further rulemaking to mandate inspection (testing) of the PDCU and GCU cards and replacement of faulty cards, as required by European Aviation Safety Agency AD 2010-0073, dated April 15, 2010. The planned compliance time for those actions would allow enough time for prior public comment on the merits of those actions. This proposed AD follows from that determination.

The unsafe condition is a leakage failure mode of TVS diodes used on PDCU or GCU cards in the PPDB, which, in combination with other system failures, could lead to loss of controllability of the airplane. You may obtain further information by examining the MCAI in the AD docket.

Relevant Service Information

Dassault Aviation has issued Mandatory Service Bulletin 7X-133, dated December 4, 2009. Goodrich Power Systems has issued the following service bulletins:

• Goodrich Service Bulletin 80232190-24-01, dated August 13, 2009;

• Goodrich Service Bulletin 80232191-24-01, dated August 13, 2009; and

• Goodrich Service Bulletin 80232192-24-01, dated August 13, 2009.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 9 products of U.S. registry.

The actions that are required by AD 2010-18-03, Amendment 39-16416 (75 FR 51931, August 24, 2010), and retained in this proposed AD, take about 4 work-hours per product, at an average labor rate of $85 per work hour. Based on these figures, the estimated cost of the currently required actions is $340 per product.

We estimate that it would take about 4 work-hours per product to comply with the new basic requirements of this proposed AD. The average labor rate is $85 per work-hour. Based on these figures, we estimate the cost of the proposed AD on U.S. operators to be $3,060, or $340 per product.

We have received no definitive data that would enable us to provide cost estimates for the on-condition actions specified in this proposed AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2010-18-03, Amendment 39-16416 (75 FR 51931, August 24, 2010), and adding the following new AD:

Dassault Aviation: Docket No. FAA-2012-0265; Directorate Identifier 2010-NM-216-AD.

(a) Comments Due Date

We must receive comments by April 30, 2012.

(b) Affected ADs

This AD supersedes AD 2010-18-03, Amendment 39-16416 (75 FR 51931, August 24, 2010).

(c) Applicability

This AD applies to Dassault Aviation Model FALCON 7X airplanes, certificated in any category, all serial numbers except those on which Dassault Aviation Modification M724 is embodied.

(d) Subject

Air Transport Association (ATA) of America Code 24: Electrical Power.

(e) Reason

This AD was prompted by a determination that additional actions are necessary to address the identified unsafe condition identified in AD 2010-18-03, Amendment 39-16416 (75 FR 51931, August 24, 2010). We are issuing this AD to detect and correct a leakage failure mode of transient voltage suppression (TVS) diodes used on power distribution control units (PDCU) cards or generator control units (GCU) cards in the primary power distribution boxes, which, in combination with other system failures, could lead to loss of controllability of the airplane.

(f) Compliance

You are responsible for having the actions required by this AD performed within the compliance times specified, unless the actions have already been done.

(g) Retained Airplane Flight Manual Revision (AFM)

This AFM revision is retained from AD 2010-18-03, Amendment 39-16416 (75 FR 51931, August 24, 2010): Within 30 days after September 8, 2010 (the effective date of AD 2010-18-03, Amendment 39-16416 (75 FR 51931, August 24, 2010)), revise the Abnormal Procedures and Limitations sections of the Dassault F7X AFM to include the following statement. This may be done by inserting copies of this AD into the AFM Limitations section and Abnormal Procedures section.

“Upon display of ELEC:BUS MISCONFIG TIED in Crew Alerting System (Abnormal procedure 3-190-20), land at nearest suitable airport

Upon display of ELEC:LH ESS PWR LO or ELEC:LH ESS NO PWR (Abnormal procedure 3-190-40), land at nearest suitable airport

Upon display of ELEC:RH ESS PWR LO and ELEC:RH ESS NO PWR (Abnormal procedure 3-190-45), land at nearest suitable airport

Upon display of HYD:BACKUP PUMP HI TEMP (Abnormal procedure 3-250-15), set off the pump and if the backup pump is still rotating (green) in hydraulic synoptic, descend to a safe altitude or below 15,000 ft

Caution: These temporary amendments take precedence over the same procedures displayed through the Electronic Check List (ECL) in the aeroplane.”

Note 1 to paragraph (g) of this AD: When a statement identical to that in paragraph (g) of this AD has been included in the Limitations section and Abnormal Procedures section in the general revisions of the AFM, the general revisions may be inserted into the AFM, and the copy of this AD may be removed.

(h) New Requirements of This AD: Test the PDCU and GCU Cards

For airplanes identified in Dassault Mandatory Service Bulletin 7X-133, dated December 4, 2009: Within 9 months after the effective date of this AD, perform a test of the PDCU and GCU cards to detect faulty components, in accordance with the Accomplishment Instructions of Dassault Mandatory Service Bulletin 7X-133, dated December 4, 2009. If any faulty components are found, before further flight, replace any affected PDCU or GCU card, in accordance with the Accomplishment Instructions of Dassault Aviation Mandatory Service Bulletin 7X-133, dated December 4, 2009.

(i) Optional Method of Compliance

For airplanes identified in Dassault Mandatory Service Bulletin 7X-133, dated December 4, 2009: Accomplishing the actions specified in paragraph (h) of this AD, within 9 months after the effective date of this AD, in accordance with the service information specified in paragraphs (i)(1), (i)(2), and (i)(3) of this AD, is acceptable for compliance with the actions specified in paragraph (h) of this AD.

(1) Goodrich Service Bulletin 80232190-24-01, dated August 13, 2009.

(2) Goodrich Service Bulletin 80232191-24-01, dated August 13, 2009.

(3) Goodrich Service Bulletin 80232192-24-01, dated August 13, 2009.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2010-0073, dated April 15, 2010, and the service bulletins specified in paragraphs (k)(1) through (k)(4) of this AD, for related information.

(1) Dassault Aviation Mandatory Service Bulletin 7X-133, dated December 4, 2009.

(2) Goodrich Service Bulletin 80232190-24-01, dated August 13, 2009.

(3) Goodrich Service Bulletin 80232191-24-01, dated August 13, 2009.

(4) Goodrich Service Bulletin 80232192-24-01, dated August 13, 2009.

Issued in Renton, Washington, on March 1, 2012.
Jeffrey E. Duven,
Acting Manager, Transport Airplane Directorate, Aircraft Certification Service.

[FR Doc. 2012-6249 Filed 3-14-12; 8:45 am]

BILLING CODE 4910-13-P